DEPARTMENT OF COMMERCE

National Oceanic and Atmospheric Administration

[I.D. 102203A]

Marine Mammals; File No. 116-1697

AGENCY: National Marine Fisheries Service (NMFS), National Oceanic and Atmospheric Administration (NOAA), Commerce.

ACTION: Issuance of permit.

SUMMARY: Notice is hereby given that Sea World Inc., 7007 Sea World Drive, Orlando, FL 32821, has been issued a permit to take one Guadalupe fur seal (Arctocephalus townsendi) for purposes of enhancement.

ADDRESSES: The permit and related documents are available for review upon written request or by appointment in the following office(s):

Permits, Conservation and Education Division, Office of Protected Resources, NMFS, 1315 East-West Highway, Room 13705, Silver Spring, MD 20910; phone (301)713-2289; fax (301)713-0376;

Southwest Region, NMFS, 501 West Ocean Blvd., Suite 4200, Long Beach, CA 90802-4213; phone (562)980-4001; fax (562)980-4018.

FOR FURTHER INFORMATION CONTACT: Amy Sloan or Jennifer Skidmore, (301)713-2289.

SUPPLEMENTARY INFORMATION: On April 18, 2003, notice was published in the Federal Register (68 FR 19193) that a request for an enhancement permit to take the species identified above had been submitted by the above-named organization. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

This permit authorizes maintenance of one non-releaseable rehabilitated juvenile male Guadalupe fur seal at Sea World of California (and other Sea World facilities if relocation is necessary) for enhancement purposes. The animal has recurring grand mal seizures and thus, release of this animal may be detrimental to the wild population due to the undetermined cause of the condition and the possibility that it may be hereditary. The animal would be provided with daily husbandry care and treatment for seizures, routine medical procedures and neutering, and would be available for opportunistic research. The applicant has been issued a five-year permit.

Issuance of this permit, as required by the ESA, was based on a finding that such permit (1) was applied for in good faith, (2) will not operate to the disadvantage of the endangered species which is the subject of this permit, and (3) is consistent with the purposes and policies set forth in section 2 of the ESA.

Dated: February 18, 2004.
Stephen L. Leathery,
Chief, Permits, Conservation and Education Division, Office of Protected Resources, National Marine Fisheries Service.

[FR Doc. 04-4020 Filed 2-23-04; 8:45 am]

BILLING CODE 3510-22-S